DEPARTMENT OF HEALTH AND HUMAN SERVICES

Administration for Children and Families

45 CFR Part 1355

Notice of Tribal Consultation Meetings Regarding How the Current SACWIS Regulations Affect Tribes Administering a Title IV-E Program

AGENCY: Children's Bureau, ACYF, ACF, HHS.

ACTION: Notice of Tribal Consultation.

SUMMARY: Title IV-E rules provide Federal Financial Participation (FFP) through a beneficial cost allocation methodology if a State or Tribe implements a comprehensive Statewide Automated Child Welfare Information System (SACWIS) to track and manage child protection, foster care and adoption assistance activities. With the continuing implementation of the Fostering Connections to Success and Increasing Adoptions Act of 2008 (Pub. L. 110-351) we wish to analyze the impact of the State-centric SACWIS rules on Tribes and Tribal child welfare agencies, to determine if Tribes have sufficient flexibility and latitude to build information systems that will meet their business needs.

The Children's Bureau's (CB) Division of State Systems (DSS) has been assigned responsibility to undertake consultation with Tribes in this area. To offer Tribes the opportunity for informed comment on the implications that the State-centric rules have on their ability to build and operate information systems that will support their title IV-E programs, we will provide an education session on the SACWIS regulations. This will be followed by a consultation to listen to the concerns and ideas from Tribal leaders and their representatives about the existing SACWIS rules and how CB can support title IV-E Tribal agencies in building information systems that will meet their business needs. We propose two such combined meetings via teleconferences to reach a broad audience of interested parties. The teleconference on February 15, 2012, is intended for consultation with Tribal leaders; the teleconference on February 16, 2012, is intended to engage in consultation with their representatives.

DATES: The meeting dates and times for teleconferences are:

• February 15, from 1-3 p.m. EST.

• February 16, from 3-5 p.m. EST.

Access information for these teleconferences is in the Supplementary Information section.

Written comments must be submitted to the office listed in the ADDRESSES section below on or before April 6, 2012.

ADDRESSES: You may submit written comments about this topic by any of the following methods:

• Federal eRulemaking Portal: http://www.regulations.gov. Follow the instructions for submitting comments.

• Email: DSSComments@acf.hhs.gov. Please include “Comments on Tribal Consultation” in the subject line of the message.

• Mail or Courier Delivery: Terry Watt, Director, Division of State Systems, Children's Bureau, Administration on Children, Youth and Families, Administration for Children and Families, 1250 Maryland Avenue SW., 8th Floor, Washington, DC 20024.

If you choose to use an express, overnight, or other special delivery method, please verify first that they are able to deliver to the above address during the normal workweek. We encourage you to submit comments electronically so that they are received in a timely manner. All comments received will be posted without change to http://www.regulations.gov including any personal information provided. Written comments and comments provided during consultation will receive equal consideration by CB.

FOR FURTHER INFORMATION CONTACT: If you have questions about this process, or want further information about current Federal regulations governing child welfare automation, please contact Mr. Peter Howe, John F. Kennedy Federal Building, Room 2000 West, 15 New Sudbury Street, Boston, MA 02203; voice: (617) 565-1515; by email at: peter.howe@acf.hhs.gov.

SUPPLEMENTARY INFORMATION: Teleconferences: The teleconference on February 15, 2012 at 1 p.m. EST is reserved for Tribal leaders; the teleconference on February 16, 2012 at 3 p.m. EST is intended for their representatives. Access information for these teleconferences is as follows:

February 15 call in: (888) 989-8183;

Password: 368-9268.

February 16 call in: (888) 673-9785;

Password: 621-8061.

The teleconferences will be recorded, and a summary of the content will be published within 45 days of the February 16, 2012 call.

SACWIS Background: Sections 474(a)(3)(C) and (D) of the Social Security Act (the Act) provide States, and now Tribes, with the opportunity to access additional funding through title IV-E to plan, design, develop, implement, and operate a SACWIS. The regulations at 45 CFR 1355.50-1355.57 were established in response to implementing legislation and were issued on December 22, 1993, and did not consider the program needs of Tribal title IV-E agencies.

SACWIS systems are described in detail in program instructions issued by CB. A general program description, and links to statutes, regulations, and other program guidance related to SACWIS can be found at: http://www.acf.hhs.gov/programs/cb/systems/sacwis/federal.htm. Two Action Transmittals that can be found there are of particular interest in understanding SACWIS rules. They are:

• ACF-OISM-001, issued on February 24, 1995, provided the CB's initial guidance and policy on SACWIS planning, designing, development and implementation.

• ACF-OSS-05, issued on August 21, 1998, provides additional guidance on the implementation and operation of a SACWIS, and supersedes some sections of AT-ACF-OISM-001.

Program Instructions (PI) whose topics may be directly relevant to Tribes include:

• ACYF-CB-PI-09-11, issued on September 17, 2009, describes the Federal Advance Planning Document (APD) regulations that Tribes have to comply with to claim title IV-B and/or title IV-E FFP for child welfare information technology projects, equipment and services.

• ACYF-CB-PI-11-07, issued on July 5, 2011, describes for States and Tribes the changes to the regulations at 45 CFR Part 95 related to the APD process used to obtain approval of FFP for acquiring automated data processing equipment and services.

• ACYF-CB-PI-11-08, issued on July 7, 2011, describes changes regarding the APD waiver process within the Federal regulations at 45 CFR part 95, and offers guidance when requesting a waiver to use a commercial-off-the-shelf (COTS) software product designed for the title IV-E or title IV-B programs.

Review of these Action Transmittals and PI may help participants pinpoint questions for Federal participants in the education portion of the teleconference.

Since the SACWIS regulations were issued 18 years ago, Federal child welfare laws have reflected changes associated with the enactment of several major child welfare legislative initiatives. The Fostering Connections to Success and Increasing Adoptions Act of 2008 Public Law 110-351 enabled Tribal self-governance in child welfare, permitting Tribes to access title IV-E reimbursement directly from the Federal government, rather than working through a State's IV-E program. As Tribes were awarded title IV-E development grants, staff from their Child Welfare programs expressed interest in acquiring automated technology. It became evident to CB that the SACWIS model might not meet the needs of Tribes.

Our desire to hold a consultation reflects our growing familiarity with the automation needs and preferences of Tribes and our desire to seek ideas about how CB can support title IV-E Tribal agencies build information systems that will support their business needs. CB invites Tribal leaders and their representatives to join in a consultation via teleconference to provide input on the following questions:

Questions: Please identify the question to which you are responding. If you have additional comments about SACWIS, please identify them by citing the related section of regulations or program guidance.

(1) What are the obstacles for your Tribe in building a child welfare information system in general and a SACWIS-type system specifically?

(2) What information do you consider critical to managing your child welfare program?

(3) Is there any special information that Tribes need or will need in order to operate child welfare programs funded with title IV-E dollars?

Tribes may also provide written comments through the methods cited in the ADDRESSES section, regardless of participation in the teleconference for consultation. Please note that Federal representatives attending the consultation teleconferences will not be able to respond directly during the consultations to questions raised by the participants.

Authority: HHS ACF Tribal Consultation Policy.

Dated: December 22, 2011.
Bryan Samuels,
Commissioner, Administration on Children, Youth and Families.

[FR Doc. 2011-33336 Filed 1-4-12; 8:45 am]

BILLING CODE 4184-25-P